DEPARTMENT OF HOMELAND SECURITY

[Docket No. DHS-2017-0010]

National Protection and Programs Directorate, Office of Emergency Communications, SAFECOM Nationwide Survey

AGENCY: National Protection and Programs Directorate, DHS.

ACTION: 60-Day notice and request for comments; New Information Collection Request: 1670-NEW.

SUMMARY: The Department of Homeland Security (DHS), National Protection and Programs Directorate (NPPD), Office of Cybersecurity and Communications (CS&C), Office of Emergency Communications (OEC), will submit the following Information Collection Request to the Office of Management and Budget (OMB) for review and clearance in accordance with the Paperwork Reduction Act of 1995.

DATES: Comments are encouraged and will be accepted until June 26, 2017. This process is conducted in accordance with 5 CFR 1320.1.

ADDRESSES: Written comments and questions about this Information Collection Request should be forwarded to DHS/NPPD/CS&C/OEC, 245 Murray Lane SW., Mail Stop 0640, Arlington, VA 20598-0640. Emailed requests should go to SNS@hq.dhs.gov. Written comments should reach the contact person listed no later than June 26, 2017. Comments must be identified by “DHS-2017-0010” and may be submitted by one of the following methods:

• Federal eRulemaking Portal: http://www.regulations.gov. Follow the instructions for submitting written comments.

• Email: SNS@hq.dhs.gov. Please include the docket number DHS-2017-0010 in the subject line of the message.

Instructions: All submissions received must include the words “Department of Homeland Security” and the docket number for this action. Comments received will be posted without alteration at http://www.regulations.gov.

SUPPLEMENTARY INFORMATION: In 2006, Congress passed Public Law 109-295, which created the Office of Emergency Communications (OEC) headed by a Director of Emergency Communications. Responsibilities of the Director include assisting the Secretary in developing and implementing a program to support and promote the ability of emergency response providers and relevant government officials to continue to communicate in the event of natural disasters, acts of terrorism, and other man-made disasters; and ensure, accelerate, and attain interoperable emergency communications nationwide.

Title 6 U.S.C. 571(c)(4) requires the DHS Secretary through the OEC Director to conduct extensive, nationwide outreach to support and promote the ability of emergency response providers and relevant government officials to continue to communicate in the event of natural disasters, acts of terrorism, and other man-made disasters. In order to perform this statutory regulation it is important to understand the variety of technology being used today. Additionally, 6 U.S.C. 573 requires the DHS Secretary to conduct a baseline assessment of the first responder emergency communications capabilities at least every five years.

These authorities in addition to DHS's responsibilities through E.O. 13618 in the area of national security/emergency providers' communications require a renewed examination of baseline emergency communications capabilities.

The Office of Emergency Communication's SAFECOM Nationwide Survey (SNS) purpose is to gather information to assess available capabilities, identify gaps and needs for emergency response providers to effectively communicate during all types of natural or man-made hazards. In order to ascertain this information the SNS will deploy four distinctive surveys across the nation addressing emergency response entities at each level of government: Federal, State and Territorial, Tribal, and Local. The SNS is built on a foundation of core elements identified by OEC and its stakeholders as “must haves” in order to achieve open and secure communications operability, interoperability and continuity. These elements are interdependent critical success factors that must be addressed to plan for and implement public safety communications capability. As such, these elements are Governance, Standard Operating Procedures, Training and Exercises, Technology, Usage and Security. The survey will encompass questions regarding each major element in order to determine a jurisdiction's level of operability, interoperability and continuity and thus their overall emergency communications capability level. Governance questions will pertain to matters related to leadership, decision making groups, agreements, funding and strategic planning. The element of Standard Operating Procedures will focus on questions related to procedures, doctrine, and practices. Training and Exercises questions will focus on needs, scope, frequency, execution and lessons learned. The Technology element questions are centered on infrastructure, functionality, performance, and redundancy. Usage questions will address frequency of use, end user proficiency, and resource capacity. The last element, Security, will contain question on identification, protection, detection, response, and recovery.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Cybersecurity and Communications, Office of Emergency Communications.

Title: The Department of Homeland Security, Office of Emergency Communications SAFECOM Nationwide Survey.

OMB Number: 1670-NEW.

Frequency: Once every five years.

Affected Public: Federal, state, local, and private sector emergency response personnel.

Number of Respondents: 3,002 annually.

Estimated Time per Respondent: 30 minutes.

Total Burden Hours: 1,501 annual burden hours.

Total Burden Cost (capital/startup): $0.

Total Recordkeeping Burden: $0.

Total Burden Cost (operating/maintaining): $120,831.68.

Dated: April 21, 2017.
Ryan Comber,
Acting Chief Information Officer.

[FR Doc. 2017-08468 Filed 4-26-17; 8:45 am]

BILLING CODE P